DEPARTMENT OF COMMERCE

National Oceanic and Atmospheric Administration

RIN 0648-XA170

Fisheries of the South Atlantic and Gulf of Mexico; South Atlantic Fishery Management Council; Public Meeting

AGENCY: National Marine Fisheries Service (NMFS), National Oceanic and Atmospheric Administration (NOAA), Commerce.

ACTION: Notice of a public meeting.

SUMMARY: The South Atlantic Fishery Management Council (SAFMC) will hold a meeting of its Scientific and Statistical Committee's (SSC) Social and Economic Subpanel to review the Gulf of Mexico Red Grouper Evaluation, review draft Regulatory Amendment 9 to the Snapper Grouper Fishery Management Plan for the South Atlantic addressing commercial trip limits, discuss snapper grouper and golden crab draft catch share amendments, discuss the development of annual advisory panel reports, and discuss methodologies for predicting future catch levels for use in amendment analyses. The meeting will be held in North Charleston, SC. See SUPPLEMENTARY INFORMATION.

DATES: The meeting will be held February 15-16, 2011. See SUPPLEMENTARY INFORMATION for specific dates and times.

ADDRESSES: The meeting will be held at the Crowne Plaza, 4831 Tanger Outlet Boulevard, North Charleston, SC 29418; telephone: (1-877) 747-7301 or (843) 744-4422; fax: (843) 740-7029.

FOR FURTHER INFORMATION CONTACT: Kim Iverson, Public Information Officer, 4055 Faber Place Drive, Suite 201, North Charleston, SC 29405; telephone: (843) 571-4366; e-mail: Kim.Iverson@safmc.net.

SUPPLEMENTARY INFORMATION: Under the Magnuson-Stevens Reauthorized Act, the SSC is the body responsible for reviewing the Council's scientific materials. The SSC Social and Economic Subpanel will review and discuss social and economic analyses and provide recommendations to the Council regarding those analyses.

SAFMC SSC Social and Economic Subpanel Meeting Schedule:

February 15, 2011: 9 a.m.-5 p.m. and February 16, 2011: 9 a.m.-1 p.m.

The SSC's Social and Economics Panel members will provide the SSC with a report regarding their guidance on the agenda items discussed.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the Council office (see ADDRESSES) at least 3 business days prior to the meeting.

Dated: January 19, 2011.
Tracey L. Thompson,
Acting Director, Office of Sustainable Fisheries, National Marine Fisheries Service.

[FR Doc. 2011-1341 Filed 1-21-11; 8:45 am]

BILLING CODE 3510-22-P